DEPARTMENT OF HEALTH AND HUMAN SERVICES

Centers for Disease Control and Prevention

[30Day-13-12NT]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC or by fax to (202) 395-5806. Written comments should be received within 30 days of this notice.

Proposed Project

Early Hearing Detection and Intervention- Pediatric Audiology Links to Service (EHDI-PALS) Facility Survey—New—National Center on Birth Defects and Developmental Disabilities (NCBDDD), Centers for Disease Control and Prevention (CDC).

Background and Brief Description

The Division of Human Development and Disability, located within NCBDDD, promotes the health of babies, children, and adults, with a focus on preventing birth defects and developmental disabilities and optimizing the health outcomes of those with disabilities. Since the passage of the Early Hearing Detection and Intervention (EHDI) Act, 97% of newborn infants are now screened for hearing loss prior to hospital discharge. However, many of these infants have not received needed hearing test and follow up services after their hospital discharges. The 2009 national average loss to follow-up/loss to documentation rate is at 45%. This rate remains an area of critical concern for state EHDI programs and CDC-EHDI team's goal of timely diagnosis by 3 months of age and intervention by 6 months of age. Many states cite the lack of audiology resource as the main factor behind the high loss to follow up. To compound the problem, many pediatric audiologists may be proficient evaluating children age 5 and older but are not proficient with diagnosing infants or younger children because children age 5 and younger requires a different skill set. To date no existing literature or database is available to help states verify and quantify their states' true follow up capacity.

EHDI-PALS is a project conceptualized by the CDC-EHDI team with input from an advisory group of external partners. EHDI-PALs workgroup has broad representation from American Speech-Language-Hearing Association (ASHA), American Academy of Audiology (AAA), Joint Committee on Infant Hearing (JCIH), National Centre for Hearing Assessment and Management (NCHAM), Directors of Speech and Hearing Programs in State Health & Welfare Agencies (DSHPSHWA), Healthcare Resources and Services Administration (HRSA), University of Maine Center for Research and Evaluation, and Hands & Voices (H&V). Meeting since April 2010, the EHDI-PALS workgroup has sought consensus on the loss to follow up/loss to documentation issue facing the EHDI programs. A survey, based on standard of care practice, was developed for state EHDI programs to quantify the pediatric audiology resource distribution within their state, particularly audiology facilities that are equipped to provide follow up services for children age 5 and younger. The survey will also capture how often providers report diagnostic hearing test results to their state EHDI jurisdiction.

CDC is requesting OMB approval to collect audiology facility information from audiologists or facility managers over a one-year period. The survey will allow CDC-EHDI team and state EHDI programs to compile a systematic, quantifiable distribution of audiology facilities and the capacity of each facility to provide services for children age 5 and younger. The data collected will also allow the CDC-EHDI team to analyze facility distribution data to improve technical assistance to State EHDI programs.

Respondents will all be audiologists who manage a facility or provide audiologic care for children age 5 and younger. Based on calculation from ASHA's biannual membership survey (available in ASHA.org) we estimate approximately 1500 audiologists will respond to the survey. To minimize burden and improve convenience, the survey will be available via a secure password protected Web site. Placing the survey on the Internet ensures convenient, on-demand access by the audiologists. Financial cost is minimized because no mailing fee will be associated with sending or responding to this survey.

It is estimated that potentially 2000 audiologists will read through the purpose statement of this survey located on page one to decide whether or not to complete the survey. It is estimated that potentially 1500 audiologists will complete the survey, which will average 9 minutes per respondent. The estimated annual burden is 258 hours. There are no costs to respondents other than their time.

Estimated Annualized Burden Hours
Respondents | Form Name | Number of Respondents | Number of Responses per Respondent | Average Burden per Response (in minutes)
Audiologists | survey introduction | 2000 | 1 | 1/60
Audiologists | survey | 1500 | 1 | 9/60

Dated: December 20, 2011.
Ron A. Otten,
Director, Office of Scientific Integrity (OSI), Office of the Associate Director for Science (OADS), Office of the Director, Centers for Disease Control and Prevention.

[FR Doc. 2012-31183 Filed 12-27-12; 8:45 am]

BILLING CODE P